DEPARTMENT OF ENERGY

International Energy Agency Meeting

AGENCY: Department of Energy.

ACTION: Notice of meeting.

SUMMARY: Subject to timely enactment of legislation to reinstate the antitrust defense under section 252 of the Energy Policy and Conservation Act, a meeting of the Industry Advisory Board to the International Energy Agency (IEA) will be held on September 20 and 21, 2000, at the headquarters of the IEA in Paris, France in connection with a meeting of the IEA's Standing Group on Emergency Questions.

FOR FURTHER INFORMATION CONTACT: Samuel M. Bradley, Assistant General Counsel for International and National Security Programs, Department of Energy, 1000 Independence Avenue, SW., Washington, DC 20585, 202-586-6738.

SUPPLEMENTARY INFORMATION: Subject to timely enactment of legislation to reinstate the antitrust defense under section 252 of the Energy Policy and Conservation Act (EPCA), the following meeting notice is provided, in accordance with section 252(c)(1)(A)(i) of the EPCA (42 U.S.C. 6272(c)(1)(A)(i)):

A meeting of the Industry Advisory Board (IAB) to the International Energy Agency (IEA) will be held at the headquarters of the IEA, 9, rue de la Fédération, Paris, France, on September 20 and 21, 2000, beginning at approximately 9 a.m. on September 20. The purpose of this notice is to permit attendance by representatives of U.S. company members of the IAB at a meeting of the IEA's Standing Group on Emergency Questions (SEQ), which is scheduled to be held at the IEA on September 20, including a preparatory encounter among company representatives on September 20 from approximately 9:00 a.m. to 9:30 a.m.

The Agenda for the preparatory encounter among company representatives is to elicit views regarding items on the SEQ's Agenda. The Agenda for the SEQ meeting is under the control of the SEQ. It is expected that the SEQ will adopt the following Agenda:

1. Adoption of the Agenda

2. Approval of the Summary Record of the 98th Meeting

3. SEQ Work Program

—The Year 2001 Work Program of the SEQ

4. Treatment of Petroleum Coke with Respect to International Energy Program (IEP) Stockholding Commitments

—Report to the SEQ by the Working Group on Petroleum Coke

—Recommendations by the SEQ Chairman and the Secretariat for an SEQ Decision on Petroleum Coke

5. Policy and Legislative Developments in Member Countries

—Recent Developments in EPCA

—Developments in other IEA Countries

—6. Emergency Response Reviews

Present Cycle

—Emergency Response Review of the Slovak Republic

—Schedule of Reviews

Design of New Cycle

—First Draft of Questionnaire for Next Review Cycle

—Co-ordination of Emergency Response Review with Comprehensive Country Reviews

7. Current IAB Activities (subject to reinstatement of EPCA's antitrust defense)

8. Report on Meeting of the Working Group on Unavailable Stocks of September 19

9. Emergency Response Procedures

—Transition from CERM (Coordinated Emergency Response Measures) to IEP Procedures

10. Emergency Reserve Issues

—Discussion of Compliance Issues at Governing Board Meeting of June 23, 2000 and Follow-up

—Emergency Reserve and Net Import Situation of IEA Countries on July 1, 2000

—Status of Stockholding Legislation in IEA Countries and Compliance Record since 1995

—Emergency Reserve Situation of IEA Candidate Countries

—Oil Stocks Outside the Organization for Economic Cooperation and Development/IEA

—The Impact of Mega Mergers on Industry Stocks

11. Emergency Preparedness in Key non-Member Countries

Oral report on latest developments in China, India, Brazil and ASCOPE (ASEAN Council on Petroleum)

12. Emergency Data System and Related Questions

—Monthly Oil Statistics May 2000

—Monthly Oil Statistics June 2000

—Base Period Final Consumption 3Q99—2Q00

—Quarterly Oil Forecast, 2nd Quarter 2000, including Spare Oil Production Capacity in OPEC Countries

13. IEA Millennium Conference on Emergency Response Strategy

14. Emergency Reference Guide

—Update of Emergency Contact Points List

15. Other Business

—Dates of November and March Meetings

As provided in section 252(c)(1)(A)(ii) of the Energy Policy and Conservation Act (42 U.S.C. 6272(c)(1)(A)(ii)), this meeting is open only to representatives of members of the IAB and their counsel, representatives of members of the SEQ, representatives of the Departments of Energy, Justice, and State, the Federal Trade Commission, the General Accounting Office, Committees of Congress, the IEA, and the European Commission, and invitees of the IAB, the SEQ, or the IEA.

Issued in Washington, D.C., September 7, 2000.
Mary Anne Sullivan,
General Counsel.

[FR Doc. 00-23524 Filed 9-12-00; 8:45 am]

BILLING CODE 6450-01-U